DEPARTMENT OF THE TREASURY

Alcohol and Tobacco Tax and Trade Bureau

27 CFR Part 9

[Notice No. 67]

RIN 1513-AB19

Proposed Establishment of the Lehigh Valley Viticultural Area (2005R-415P)

AGENCY: Alcohol and Tobacco Tax and Trade Bureau, Treasury.

ACTION: Notice of proposed rulemaking.

SUMMARY: The Alcohol and Tobacco Tax and Trade Bureau proposes to establish the 1,888 square mile Lehigh Valley viticultural area in southeastern Pennsylvania in portions of Lehigh, Northampton, Berks, Schuylkill, Carbon, and Monroe Counties. We designate viticultural areas to allow vintners to better describe the origin of their wines and to allow consumers to better identify wines they may purchase. We invite comments on this proposed addition to our regulations.

DATES: We must receive written comments on or before January 8, 2007.

ADDRESSES: You may send comments to any of the following addresses:

• Director, Regulations and Rulings Division, Alcohol and Tobacco Tax and Trade Bureau, Attn: Notice No. 67, P.O. Box 14412, Washington, DC 20044-4412.

• 202-927-8525 (facsimile).

• nprm@ttb.gov (e-mail).

• http://www.ttb.gov/wine/wine_rulemaking.shtml. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/wine/wine_rulemaking.shtml.

See the Public Participation section of this notice for specific instructions and requirements for submitting comments, and for information on how to request a public hearing.

FOR FURTHER INFORMATION CONTACT: N. A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographic features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographic features, such as climate, soils, elevation, and physical features that distinguish the proposed viticultural area from surrounding areas;

• A description of the specific boundary of the proposed viticultural area, based on features found on United States Geological Survey (USGS) maps; and

• A copy of the appropriate USGS map(s) with the proposed viticultural area's boundary prominently marked.

Lehigh Valley Petition

John Skrip III, chairman of the Lehigh Wine Trail Appellation Committee submitted a petition to TTB proposing the establishment of the 1,888 square mile “Lehigh Valley” viticultural area in southeastern Pennsylvania. The proposed area is located approximately 45 miles north-northwest of Philadelphia and includes portions of Lehigh, Northampton, Berks, Schuylkill, Carbon, and Monroe Counties. TTB notes that the proposed Lehigh Valley viticultural area does not overlap any other viticultural area. As of 2005, the proposed viticultural area included 9 wineries and 13 vineyards with 220 acres devoted to viticulture, according to the petitioner. The petitioner notes that the distinguishing features of the proposed viticultural area include its rolling hills and a similar agricultural climate throughout.

The evidence submitted with the petition is summarized below.

Name Evidence

The petitioner explains that Lehigh Valley derives its name from the Lehigh River, which flows through the proposed viticultural area and into the Delaware River at Easton, Pennsylvania. The petitioner states that the word “Lehigh” originated with the Delaware Indians in the 1600s, who named the area “Lechauwekink,” meaning an area with river forks. The petitioner notes that through a series of translations of the original Indian name, the name “Lehigh” now identifies the area. The petitioner also notes that the “Lehigh Valley” name applies to a much larger area than the immediate region bordering the Lehigh River and is, in fact, associated with the entire proposed viticultural area.

The petitioner provides evidence for the use of the Lehigh or Lehigh Valley name throughout the proposed viticultural area by cities, schools, the National Highway System, and businesses. For example, Lehigh Street is a major thoroughfare in the city of Allentown, Lehigh University is located on the outskirts of Bethlehem, and the Lehigh Tunnel was constructed on the Northeast Extension of the Pennsylvania Turnpike, just north of the Lehigh County line. Also, two pages of the Lehigh Valley telephone book include nine columns of businesses located within the proposed viticultural area the use “Lehigh Valley” as part of the company name. The petition also includes brochures for inns, golf courses, covered bridges, a chamber orchestra, and a wine trail that use the Lehigh Valley name.

The January 11, 2005, edition of the Bethlehem, Pennsylvania, Express-Times newspaper claims on its front page that it is “The Lehigh Valley's fastest growing newspaper.” An article in the business section of the March 31, 2002, edition of the Allentown Morning Call newspaper discusses the economic development of the Lehigh Valley area. The article notes that six community organizations incorporated “Lehigh Valley” in their names between 1984 and 2002, including the Lehigh Valley Convention and Visitors Bureau, American Red Cross of the Greater Lehigh Valley, United Way of Greater Lehigh Valley, and the Lehigh Valley Chamber of Commerce.

In addition, the petitioner provides copies of two regional magazines, “Lehigh Valley Style,” dated March/April 2003, and “Lehigh Valley,” dated July/August 2004. The “Lehigh Valley” magazine includes a full page advertisement for the Lehigh Valley Hospital in Allentown, Pennsylvania. Other petitioner evidence includes a toll receipt for the Lehigh Valley exit of the Pennsylvania Turnpike extension (Interstate 476) and a copy of the home page from the Lehigh Valley International Airport Web site. A U.S. post office and mail distribution center located off Route 22 between Allentown and Bethlehem is referred to as the Lehigh Valley Post Office, according to the petitioner.

Boundary Evidence

The proposed Lehigh Valley viticultural area encompasses the Lehigh River valley from the town of Jim Thorpe to the river's mouth at Easton, as well as the regions to the northeast and southwest of the immediate river valley. In addition to the Lehigh River valley, the proposed viticultural area includes portions of the Schuylkill River valley in the southwest and the Brodhead River valley in the northeast. The proposed area also includes all or portions of the cities of Stroudsburg, Easton, Bethlehem, Allentown, and Reading, Pennsylvania.

Commercial grape growing started in the proposed Lehigh Valley viticultural area in 1974, the petitioner explains, when Vynecrest Winery and Clover Hill Winery started planting grapes. Two years later, Franklin Hill Winery planted grapes near Bangor in Northampton County.

In shape, the proposed viticultural area is a southwest to northeast oriented rectangle. The petitioner states that the proposed boundary is 92 miles along its northern side, 24 miles along its eastern side, 56 miles along its southern side, and 28 miles along its western side.

Along the proposed viticultural area's northern boundary, a long Appalachian ridge, including Second Mountain and Wildcat Mountain in Schuylkill County, Mauch Chunk Ridge, Bear Mountain, and Call Mountain in Carbon County, and a series of lower hills in Monroe County, separates the proposed area from the cooler mountains of northeastern Pennsylvania. To the east, between Stroudsburg and Easton, the Delaware River separates Pennsylvania from New Jersey and marks the eastern limit of the proposed Lehigh Valley viticultural area. The petitioner notes that the region of northwestern New Jersey bordering the proposed area is not considered part of the Lehigh Valley region. To the southeast, another long Appalachian mountain ridge, South Mountain separates the proposed viticultural area from the immediate Philadelphia region.

To the west, the southwestern Berks County and Schuylkill County lines separate the Lehigh Valley region from the counties of south-central Pennsylvania, which is considered a separate geographical region of the State according to the petitioner.

Distinguishing Features

The distinguishing features of the proposed Lehigh Valley viticultural area, according to the petitioner, include its rolling hills and a similar agricultural climate throughout. These features contrast with the regions to the north and south of the proposed viticultural area, according to the petitioner. To document these differences, the petitioner uses data collected from 1961 to 1996 by the United States Department of Agriculture (USDA) and its Natural Resources Conservation Service (NRCS). In addition, the petitioner submitted maps of Pennsylvania with information on soil moisture, soil temperature, frost-free periods, and agro-climatic regions.

Climate

The agricultural-climatic features of the proposed Lehigh Valley viticultural area include heat accumulation measurements of 2,601 to 3,000 annual degree days and an annual moisture surplus of 351 to 450 millimeters of water, as shown on the Agro-Climate Regions of Pennsylvania map submitted with the petition. (As a measurement of heat accumulation during the growing season, one degree day accumulates for each degree Fahrenheit that a day's average temperature is above 50 degrees, which is the minimum temperature required for grapevine growth. See “General Viticulture,” by Albert J. Winkler, University of California Press, 1974.)

The USGS and the NRCS integrates degree-days and annual moisture surplus data to identify regions of relatively homogeneous heat and moisture characteristics related to crop production. This information is shown on the Agro-Climate Regions of Pennsylvania map submitted with the petition and is summarized in the table below.

Lehigh Valley Area Degree Day and Water Balances
| North of Lehigh Valley Region | Lehigh Valley Area | South of Lehigh Valley Region
Growing season degree-days | 1,801-2,600 | 2,601-3,000 | 3,001-3,400
Annual water balance (surplus) | 451-550 | 351-450 | 351-450

The petitioner presents annual temperature data collected from 1975 to 2004 at three airports—one to the north of the proposed viticultural area, one to the south of the proposed area, and one within the proposed area. The data, as summarized in the table below, shows differences in average annual precipitation and temperatures, with a warming trend from north to south.

Lehigh Valley Area Climatic Temperature Data Averages 1975-2004
Fahrenheit temperatures | Wilkes-Barre Scranton Airport (25 miles north of Lehigh Valley) | Lehigh Valley Airport (within the proposed viticultural area) | Philadelphia International Airport (45 miles south of Lehigh Valley)
Average High | 58.8° | 61.5° | 64.4°
Average Mean | 49.7° | 51.7° | 55.4°
Average Low | 40.6° | 42° | 46.6°
Maximum High | 94.4° | 96.5° | 97.3°
Minimum Low | −4.2° | 0.7° | 5.2°
Frequency of days below 5° | 14 | 7 | 3
Average rain in inches | 37.5″ | 43.6″ | 41.6″

The proposed Lehigh Valley viticultural area's warmer growing season ranges from 161 to 180 consecutive frost-free days, with the proposed area's southern portion having fewer days with frost than its northern portion, according to the Frost-Free Period of Pennsylvania Landscapes map submitted with the petition. A frost-free period, based on 32 degrees Fahrenheit or above, the petitioner explains, represents the consecutive days from the final killing frost in the spring to the first killing frost in the fall. This 161- to 180-day timeframe defines the length of the regional growing season for most agronomic crops.

The region north of the proposed viticultural area, the petitioner states, is cooler during the growing season, with 1,801 to 2,600 degree days of heat accumulation. The region to the north also is wetter, with an annual moisture surplus of 451 to 550 millimeters of water. The higher elevations to the north of the Lehigh Valley region create a climate with cooler temperatures and more soil moisture retention. As evidence, the petitioner submitted the Agro-Climate Regions of Pennsylvania map, which shows a distinctively cooler and wetter climate north of the proposed Lehigh Valley viticultural area. Also, the meteorological data collected during the years 1975 to 2004 from the Wilkes-Barre Scranton International Airport, located 25 miles north of the proposed viticultural area, shows consistently lower temperatures than are found in the proposed viticultural area, with twice as many days dipping below 5 degrees Fahrenheit annually.

The petitioner describes the area to the south of the proposed viticultural area as marginally, yet consistently, warmer. Meteorological information included in the petition from the Philadelphia International Airport, 45 miles south of the Lehigh Valley, confirms that temperatures to the south of the proposed area are warmer by an average of 4 degrees Fahrenheit. The petitioner also explains that to the south of the proposed area the warmer temperatures, combined with different soils, create a longer grape-growing season and mature grapes with lower acidities and different flavors than those of the proposed Lehigh Valley viticultural area.

Areas to the east and west of the proposed Lehigh Valley viticultural area are, for geopolitical and social reasons, considered to be outside of the Lehigh Valley. Across the Delaware River to the east of the proposed viticultural area is the State of New Jersey. The petitioner states that the residents of this New Jersey region do not consider themselves to be a part of the Lehigh Valley region of Pennsylvania. The region to the west of the proposed viticultural area also is not considered to be part of the Lehigh Valley, according to the petitioner. The counties to the west of the proposed area considered by most to be part of south-central Pennsylvania, which is often called “Pennsylvania Dutch Country.”

Topography

The topography of the proposed Lehigh Valley viticultural area largely consists of rolling hills with elevations generally between 500 feet and 1000 feet, according to the petitioner and the USGS maps provided. Creeks and several rivers meander through the region, while lakes dot the landscape, as shown on the USGS maps of the region. Also, a small portion of the proposed northeastern boundary area, along the foothills of the Blue Mountain range, rises to the 1,600-foot contour line. The Appalachian National Scenic Trail meanders through the proposed area's higher elevations, as shown on the USGS maps.

Beyond the northern boundary of the proposed viticultural area, the terrain transitions from the lower, rolling hills of the Lehigh Valley to higher foothills and mountains with elevations ranging from 1,000 feet to 1,900 feet. While the region southeast of the proposed viticultural area begins on the heights of South Mountain, the region quickly falls to the lower and flatter elevations of the Delaware River valley.

Soils

The petitioner states that the soils within the proposed Lehigh Valley viticultural area are mainly based on shale, sandstone, and siltstone. A 1972 Soil Conservation Service publication, General Soil Map—Pennsylvania, verifies that the area contains shale, sandstone, and siltstone. Soils to the south of the proposed area, according to the petitioner, are based on schist, gneiss, and porcelanite, rather than shale, limestone, and sandstone.

According to data submitted by the petitioner, a lack of soil moisture during the growing season puts the proposed Lehigh Valley viticultural area in the Typic Udic moisture regime (less than 90 days of drying), as determined by USGS and NRCS data and shown on the Soil Moistures Regimes of Pennsylvania Landscapes map. The petitioner explains that the region typically has a June through August dry season when the grape vines rely on stored moisture rather than rain.

The estimated annual mean soil temperature of the proposed viticultural area is Typic Mesic, ranging from 10.5 degrees Centigrade, or 50.9 degrees Fahrenheit, to 12.0 degrees Centigrade, or 54 degrees Fahrenheit. This information is based on temperatures at 20 inches below the soil surface and shown on the Soil Moistures Regimes of Pennsylvania Landscapes map.

Geology

The geology of the proposed Lehigh Valley viticultural area, as depicted on the Geologic Map of Pennsylvania, Commonwealth of Pennsylvania, Conservation and Natural Resources, Bureau of Topographic and Geologic Survey, revised in 2000, includes Ordovician features in the south and Permian features in the north. The Ordovician geology, predominantly shale, limestone, dolomite, and sandstone, dates back 430 million to 500 million years. The Permian geology, dating back 250 million to 290 million years, consists of coal, in addition to the sandstone, shale, and limestone that is similar to that found in the Ordovician geology to the south of the proposed viticultural area.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Lehigh Valley,” will be recognized as a name of viticultural significance. Also, based on the evidence available to us, we find that “Lehigh” alone is locally and/or nationally known as referring to the area in the State of Pennsylvania encompassed by the proposed Lehigh Valley viticultural area. (See 27 CFR 4.39(i)(3), which provides that a name has viticultural significance when determined by a TTB officer.)

Therefore, the proposed part 9 regulatory text set forth in this document specifies both “Lehigh Valley” and “Lehigh” as terms of viticultural significance for purposes of part 4 of the TTB regulations. If this proposed text is adopted as a final rule, wine bottlers using “Lehigh Valley” or “Lehigh” in a brand name, including a trademark, or in another label reference as to the origin of the wine, will have to ensure that the product is eligible to claim the proposed Lehigh Valley viticultural area as an appellation of origin.

For a wine to be eligible to use as an appellation of origin a viticultural area name or other term specified as being viticulturally significant in part 9 of the TTB regulations, at least 85 percent of the wine must be derived from grapes grown within the area represented by that name or other term, and the wine must meet the other conditions listed in 27 CFR 4.25(e)(3). If the wine is not eligible to use as an appellation of origin a viticultural area name or other viticulturally significant term that appears in the brand name, then the label is not in compliance and the bottler must change the brand name and obtain approval of a new label. Similarly, if the viticultural area name or other viticulturally significant term appears in another reference on the label in a misleading manner, the bottler would have to obtain approval of a new label. Accordingly, if a new label or a previously approved label uses the name “Lehigh Valley” or “Lehigh” for a wine that does not meet the 85 percent standard, the new label will not be approved, and the previously approved label will be subject to revocation, upon the effective date of the approval of the Lehigh Valley viticultural area.

Different rules apply if a wine has a brand name containing a viticultural area name or other viticulturally significant term that was used as a brand name on a label approved before July 7, 1986. See 27 CFR 4.39(i)(2) for details.

Public Participation

Comments Invited

We invite comments from interested members of the public on whether we should establish the proposed viticultural area. We also are interested in receiving comments on the sufficiency and accuracy of the name, climatic, boundary, and other required information submitted in support of the petition. Please provide any available specific information in support of your comments.

In addition, we are interested in receiving comments on the proposal to identify “Lehigh” standing alone as a term of viticultural significance. Because of the potential impact on approved wine labels from the proposed establishment of the Lehigh Valley viticultural area and the determination that “Lehigh” standing alone is viticulturally significant, as discussed above under Impact on Current Wine Labels, we are particularly interested in comments regarding potential conflicts between “Lehigh Valley” or “Lehigh” and existing brand names. If a commenter believes that a conflict will arise, the comment should describe the nature of that conflict, including any anticipated negative economic impact that approval of the proposed viticultural area will have on an existing viticultural enterprise. We also invite suggestions for ways to avoid any conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/wine/wine_rulemaking.shtml. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- x 11-inch page. Contact the TTB information specialist at the above address or by telephone at 202-927-2400 to schedule an appointment or to request copies of comments.

We will post this notice and any comments we receive on this proposal on the TTB Web site. All name and address information submitted with comments will be posted, including e-mail addresses. We may omit voluminous attachments or material that we consider unsuitable for posting. In all cases, the full comment will be available in the TTB Information Resource Center. To access the online copy of this notice and the submitted comments, visit http://www.ttb.gov/wine/wine_rulemaking.shtml. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend 27 CFR, chapter 1, part 9, as follows:

PART 9—AMERICAN VITICULTURAL AREAS

1. The authority citation for part 9 continues to read as follows:

Authority: 27 U.S.C. 205.

2. Subpart C is amended by adding § 9.______ to read as follows:

Subpart C—Approved American Viticultural Areas

§ 9.______ Lehigh Valley.

(a) Name. The name of the viticultural area described in this section is “Lehigh Valley”. For purposes of part 4 of this chapter, “Lehigh Valley” and “Lehigh” are terms of viticultural significance.

(b) Approved maps. The seven United Stages Geological Survey 1:50,000 scale topographic maps used to determine the boundary of the Lehigh Valley viticultural area are titled:

(1) Berks County, Pennsylvania, 1978;

(2) Schuylkill County (West Half), Pennsylvania, 1979;

(3) Schuylkill County (East Half), Pennsylvania, 1979;

(4) Carbon County, Pennsylvania, 1991;

(5) Monroe County, Pennsylvania, 1980;

(6) Northampton County, Pennsylvania, 1981; and

(7) Lehigh County, Pennsylvania, 1987.

(c) Boundary. The Lehigh Valley viticultural area is located in portions of Lehigh, Northampton, Berks, Schuylkill, Carbon, and Monroe Counties, Pennsylvania. The boundary of the proposed Lehigh Valley viticultural area is as described below:

(1) The beginning point is on the Berks County map at the intersection of the Berks-Lancaster County line and the single-track Conrail rail line located near Cacoosing Creek in South Heidelberg Township;

(2) From the beginning point, proceed northwest along the Berks County line and, crossing onto the Schuylkill County (West Half) map, continue northwest along the Schuylkill-Lebanon County line to the county line's intersection with the northern boundary of Pine Grove township; then

(3) Proceed northeast along the northern boundary of Pine Grove, Washington, and Wayne townships and, crossing onto the Schuylkill County (East Half) map, continue along the township boundary to the northeast corner of Wayne township, then

(4) Proceed east-northeasterly in a straight line to the confluence of Beaver Creek and Cold Run at the northeast corner of State Game Lands No. 222 in Walker township; then

(5) Proceed north-northeasterly in a straight line to the 1,402-foot elevation point on Wildcat Mountain in Walker township; then

(6) Proceed easterly in a straight line, crossing onto the Carbon County map, and continue to Bench Mark (BM) 1032 located on Highway 902, south of the village of Bloomingdale; then

(7) Proceed east-northeasterly in a straight line to BM 555 located immediately east of the Lehigh River in the city of Jim Thorpe; then

(8) Proceed east-northeasterly in a straight line to the northern most point of Lehighton Reservoir; then

(9) Proceed east-northeasterly in a straight line to the western end of the dam at the Penn Forest Reservoir; then

(10) Proceed easterly in a straight line and, crossing onto the Monroe County map, continue to the 847-foot elevation point located at the intersection of Highway 534 and an unnamed road locally known as Dotters Corner Road in Polk township; then

(11) Proceed east-northeasterly in a straight line to the intersection of Highway 115 and an unnamed secondary road locally known as Astolat Road immediately north of the village of Effort; then

(12) Proceed east-northeasterly in a straight line to St. Johns Cemetery, located along Appenzell Creek northwest of the village of Neola; then

(13) Proceed straight northeast to the intersection of Interstate 80 and an unnamed road locally known as Hamilton Turnpike at the town of Bartonsville; then

(14) Proceed east-southeast along Interstate 80 through Stroudsburg to the west bank of the Delaware River; then

(15) Proceed south (downstream) along the west bank of the Delaware River, and, crossing onto the Northampton map, continue south along the west bank of the Delaware River to the mouth of Lehigh River at Easton; then

(16) Proceed southwesterly (upstream) along the south bank of the Lehigh River, and crossing onto the Lehigh County map, continue along the south bank of the Lehigh River to the mouth of Jordan Creek in Allentown; then

(17) Proceed westerly (upstream) along Jordan Creek to the first railroad bridge over the creek, and then, following the Conrail rail line on that bridge, proceed southerly along the Conrail rail line (paralleling Trout Creek at first) through Emmaus, Macungie, and Alburtis, and continue along the rail line to the Lehigh-Berks County line; then

(18) Crossing onto the Berks County map, continue southerly along the Conrail rail line through Mertztown, Topton, Lyons, Fleetwood, Blandon, and Muhlenburg to the Conrail rail bridge across the Schuylkill river in Reading; then

(19) Following the Conrail rail line on the Schuylkill River bridge, proceed southerly along the rail line through Wyomissing to the rail line's junction with a single-track Conrail rail line in Sinking Springs; then

(20) From the Conrail rail line junction in Sinking Springs, follow the single track Conrail rail line through Montello, Fritztown, and Vinemont, and return to the beginning point.

Signed: October 5, 2006.
John J. Manfreda,
Administrator.

[FR Doc. E6-18895 Filed 11-7-06; 8:45 am]

BILLING CODE 4810-31-P